DEPARTMENT OF THE INTERIOR

Bureau of Land Management

[AZ-910-0777-XP-241A]

State of Arizona Resource Advisory Council Meeting

AGENCY: Bureau of Land Management, Interior.

ACTION: Arizona Resource Advisory Council Meeting notice.

SUMMARY: This notice announces a meeting and tour of the Arizona Resource Advisory Council (RAC).

The business meeting will be held on May 3, 2005, in Kingman, Arizona, at the Dambar and Steakhouse banquet room located on 1960 E. Andy Devine Avenue. It will begin at 9:30 a.m. and conclude at 4:30 p.m. The agenda items to be covered include: Review of the January 25, 2005 Meeting Minutes; BLM State Director's Update on Statewide Issues; Presentations on Federal Land Recreation Enhancement Act, Designated Off-Highway Vehicle Areas, and Arizona Land Use Planning Updates; RAC Questions on Written Reports from BLM Field Managers; Field Office Rangeland Resource Team Proposals; Reports by the Standards and Guidelines, Recreation, Off-Highway Vehicle Use, Public Relations, Land Use Planning and Tenure, and Wild Horse and Burro Working Groups; Reports from RAC members; and Discussion of future meetings. A public comment period will be provided at 11 a.m. on May 3, 2005, for any interested publics who wish to address the Council.

On May 4, the RAC will tour the Pine Lake subdivision in the Hualapai Mountains. BLM will highlight the fuel reduction projects, thinning and prescribed fire, it's jointly conducting with the Pine Lake Working Group to protect the area from catastrophic wildfires. The tour will be conducted from approximately 8 a.m. to 1 p.m.

FOR FURTHER INFORMATION CONTACT: Deborah Stevens, Bureau of Land Management, Arizona State Office, 222 North Central Avenue, Phoenix, Arizona 85004-2203, (602) 417-9215.

Elaine Zielinski,
Arizona State Director.

[FR Doc. 05-7279 Filed 4-11-05; 8:45 am]

BILLING CODE 4310-32-P